DEPARTMENT OF VETERANS AFFAIRS

[OMB Control No. 2900—NEW]

Agency Information Collection Activity; Withdrawal

AGENCY: Department of Veterans Affairs.

ACTION: Notice; withdrawal.

SUMMARY: The Department of Veterans Affairs published collection of information notices in a Federal Register on February 12, 2015 and August 3, 2015 that contained errors. With this notice, we are withdrawing those documents.

FOR FURTHER INFORMATION CONTACT: Brian McCarthy at (202) 461-6345.

SUPPLEMENTARY INFORMATION: The Federal Register Notices published for Patient Aligned Care Team: Helping Veterans Manage Chronic Pain, Engaging Caregivers Veterans with Dementia, Patient Centered Medical Home Operation Enduring Freedom/Operation Iraqi Freedom Veterans with Post Traumatic Stress Disorder: Bridging Primary and Behavioral Health Care were incorrect. The 60 day Federal Register Notice (80 FR 7909) was published on February 12, 2015 and the 30 day Federal Register Notice (80 FR 46107) was published on August 3, 2015. The new notices will be published at a later date.

By direction of the Secretary.
Kathleen M. Manwell,
Program Analyst, VA Privacy Service, Office of Privacy and Records, Management, Department of Veterans Affairs.

[FR Doc. 2015-31387 Filed 12-11-15; 8:45 am]

BILLING CODE 8320-01-P